DEPARTMENT OF TRANSPORTATION

Coast Guard

[USCG 2001-10031]

Information Collections Under Review by the Office of Management and Budget (OMB): 2115-0043 and 2115-0076

AGENCY: Coast Guard, DOT.

ACTION: Request for comments.

SUMMARY: In compliance with the Paperwork Reduction Act of 1995, this request for comments announces that the Coast Guard has forwarded the two Information Collection Reports (ICRs) abstracted below to OMB for review and comment. Our ICRs describe the information we seek to collect from the public. Review and comment by OMB ensure that we impose only paperwork burdens commensurate with our performance of duties.

DATES: Please submit comments on or before October 29, 2001.

ADDRESSES: Please send comments to (1) the Docket Management System (DMS), U.S. Department of Transportation (DOT), room PL-401, 400 Seventh Street, SW., Washington, DC 20590-0001; and (2) the Office of Information and Regulatory Affairs (OIRA), Office of Management and Budget (OMB), 725 17th Street, NW., Washington, DC 20503, to the attention of the Desk Officer for the USCG.

Copies of the complete ICRs are available for inspection and copying in public docket USCG 2001-10031 of the Docket Management Facility between 10 a.m. and 5 p.m., Monday through Friday, except Federal holidays; for inspection and printing on the internet at http://dms.dot.gov; and for inspection from the Commandant (G-CIM-2), U.S. Coast Guard, room 6106, 2100 Second Street, SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OMB. The Coast Guard has already published (66 FR 36028 (July 10, 2001)) the 60-day notice required by OMB. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2001-10031. Comments to OIRA are best assured of having their full effect if OIRA receives them 30 or fewer days after the publication of this request.

Information Collection Requests

1. Title: Plan Approval and Records for Load Lines.

OMB Control Number: 2115-0043.

Type of Request: Extension of a currently approved collection.

Affected Public: Owners and operators of vessels.

Forms: LL 13-C, LL-14-A, LL 18-E, LL 19, LL 40-A, 88 USA LL, and A21 HSSC LL-EXEMPT.

Abstract: Collecting this information helps the Coast Guard ensure that certain vessels are not loaded deeper than appropriate for safety. Vessels over 150 gross tons or 79 feet in length engaged in commerce on international or coastwise voyages by sea must obtain Load Line Certificates.

Annual Estimated Burden Hours: The estimated burden is 1,916 hours a year.

2. Title: Security Zones, Regulated Navigation Areas, and Safety Zones.

OMB Control Number: 2115-0076.

Type of Request: Extension of a currently approved collection.

Affected Public: Federal, State, and local government agencies, vessels, and facilities.

Form: This collection of information does not require the public to fill out Coast Guard forms, but does require the public to request, in writing, to the Coast Guard that a security zone, safety zone or regulated navigation area be established to ensure public safety.

Abstract: The Coast Guard collects this information only when someone seeks a security zone, regulated navigation area, or safety zone. It uses the information to assess the need to establish one of these areas.

Annual Estimated Burden Hours: The estimated burden is 417 hours a year.

Dated: September 21, 2001.
V.S. Crea,
Director of Information and Technology.

[FR Doc. 01-24233 Filed 9-26-01; 8:45 am]

BILLING CODE 4910-15-P